AGENCY FOR INTERNATIONAL DEVELOPMENT

Board for International Food and Agricultural Development; One Hundred and Fifty-Sixth Meeting; Notice of Meeting

Pursuant to the Federal Advisory Committee Act, notice is hereby given of the one hundred and fifty-sixth meeting of the Board for International Food and Agricultural Development (BIFAD). The meeting will be held from 8:30 a.m. to 4:15 p.m. on February 24, 2009 at the National Press Club located at 529 14th St., NW., Washington, DC. The venue will be the 1st Amendment Room which is located on the 13th floor of the National Press Club. “Higher Education: A Critical Partner in Global Agricultural Development” continues to be the central theme of BIFAD's initiatives and the February meeting.

Dr. Robert Easter, Chairman of BIFAD, will preside over the proceedings. Dr. Easter is Dean of the College of Agriculture, Consumer and Environment Sciences at the University of Illinois.

The strengthening of USAID and university relations to achieve unified, and cooperative actions on international agricultural development, especially pertaining to food security, is central to the Agenda set for BIFAD's 156th meeting. The 156th meeting builds on the Board's recent initiatives, including the Conference of Deans (April 2008); the White Paper (presented to USAID's Administrator in October 2008); and the special dialogue on establishing a university “Brain Trust” (panel of university deans, De Moines meeting October 2008).

BIFAD's morning session will start with a presentation on “Collaboration in Support of U.S. Foreign Assistance Priorities—2009 Outlook,” delivered by Karen Turner, Director of USAID's Office of Development Partners (ODP). BIFAD was relocated to USAID's Office of Development Partners in October 2008. This presentation will be followed by the technical reports of BIFAD's technical subcommittee, the Strategic Partnership for Agricultural Research and Education (SPARE) led by Dr. Sandra Russo, Chairperson, of SPARE and will include SPARE's actions on the SPARE Charter, CRSP management, SPARE directions, and the role of SPARE in support of BIFAD's initiatives.

Following the SPARE presentation the Board will receive an update on legislative actions related to Agriculture and Higher Education. Congressional staff (TBD) will provide comment on directions and funding implications.

Of special interest to program implementers will be BIFAD's report on a three-member team field visit to Kenya. The October 2008 visit, lead by BIFAD Chairman Robert Easter, reviewed selected USAID programs being implemented by USAID/Kenya (country mission) and USAID/East Africa (regional mission). One aspect of the Board's Kenya visit was to gain insights on how the Board and the university community can assist USAID field missions.

Highlighting the morning session will be an interagency panel discussion, “US Government Approaches to Agriculture and Food Security in Africa.” David Atwood, Director of the Office of Sustainable Development in USAID's Africa Bureau, assembled the panel and will provide USAID's Africa Bureau perspectives and moderate the discussion. Panel members include Pat Sheikh, Acting Deputy Under Secretary, Foreign Agricultural Service, U.S. Department of Agriculture; Kristen Penn, Senior Agricultural Director, Millennium Challenge Corporation (MCC); Howard Anderson, Acting Director, Overseas Programming and Training Support, U.S. Peace Corps; and Susan Bradley, Director of Program Planning and Management, Democracy Conflict and Humanitarian Assistance Bureau (DCHA), USAID. The panel's discussion will provide BIFAD with current perspectives on development conditions and food security implications in Africa and serve to expand the dialogue on reaching foreign assistance objectives through cooperation among USG and other partners.

Following an executive luncheon (closed to the public) the Board will continue discussion and consideration of several initiatives to enhance university collaboration with USAID. The Board will discuss recommendations advanced in its White Paper, including strategic and long-term perspectives on international agriculture. Discussion objectives include identifying several priority areas for joint university and USAID collaboration and timely implementation to assist USAID's leadership. Building on the program groundwork established by the Board in 2007-08, BIFAD's mid-afternoon session includes deliberations on “Collaborating with USAID to Establish the University Brain Trust for International Agricultural Development” and plans to sponsor the Conference of Deans II. Both initiatives are mechanisms to mobilize university capacities in collaboration with international agri-business and with BIFAD's leadership, to advise and assist USAID.

Ending a very full agenda will be comments on “The Way Forward: Toward a USAID/BIFAD Partnership.” These will be delivered by Carol Grigsby, Deputy Director, Office of Development Partners, USAID.

The Board meeting is open to the public. The Board welcomes open dialogue to promote greater focus on critical issues facing USAID, the role of universities in development, and applications of U.S. scientific, technical and institutional capabilities to international agriculture.

Note on Public Comments: Due to time constraints public comments to the Board will limited to two (2) minutes to accommodate as many as possible. The comments must be submitted ahead of the meeting and they must be in writing.

Those wishing to attend the meeting or obtain additional information about BIFAD should contact Dr. Ronald S. Senykoff, Executive Director and Designated Federal Officer for BIFAD. Write him in care of the U.S. Agency for International Development, Ronald Reagan Building, Office of Development Partners, 1300 Pennsylvania Avenue, NW., Room 2.11-085, Washington, DC 20523-2110 or telephone him at (202) 712-0218 or fax (202) 216-3010.

Ronald S. Senykoff,
Executive Director and USAID Designated Federal Officer for BIFAD, Office of Agriculture and Food Security, Bureau for Economic Growth, Agriculture & Trade, U.S. Agency for International Development.

[FR Doc. E9-3256 Filed 2-13-09; 8:45 am]

BILLING CODE 6116-01-P